DEPARTMENT OF COMMERCE

International Trade Administration

[A-533-857, A-580-870, A-565-802, A-517-804, A-583-850, A-549-832, A-489-816, A-823-815, A-552-817]

Certain Oil Country Tubular Goods From India, the Republic of Korea, the Republic of the Philippines, Saudi Arabia, Taiwan, Thailand, the Republic of Turkey, Ukraine, and the Socialist Republic of Vietnam: Postponement of Preliminary Determinations of Antidumping Duty Investigations

AGENCY: Enforcement and Compliance (formerly Import Administration), International Trade Administration, Department of Commerce.

DATES: October 31, 2013.

FOR FURTHER INFORMATION CONTACT: Emily Halle at (202) 482-0176 (India); Victoria Cho at (202) 482-5075 (Korea); Dmitry Vladimirov at (202) 482-0665 (the Philippines); Jason Rhoads at (202) 482-0123 (Saudi Arabia); Thomas Schauer at (202) 482-0410 (Taiwan); Yasmin Nair at (202) 482-3813 (Thailand); Catherine Cartsos at (202) 482-1757 (Turkey); David Lindgren at (202) 482-3870 (Ukraine); or Fred Baker at (202) 482-2924 (Vietnam), AD/CVD Operations, Enforcement and Compliance, International Trade Administration, U.S. Department of Commerce, 14th Street and Constitution Avenue NW., Washington, DC 20230.

SUPPLEMENTARY INFORMATION:

Postponement of Preliminary Determinations

On July 29, 2013, the Department of Commerce (the Department) published a notice of initiation of antidumping duty investigations of certain oil country tubular goods from India, the Republic of Korea, the Republic of the Philippines, Saudi Arabia, Taiwan, Thailand, the Republic of Turkey, Ukraine, and the Socialist Republic of Vietnam.¹ The notice of initiation stated that the Department, in accordance with section 733(b)(1)(A) of the Tariff Act of 1930, as amended (the Act), and 19 CFR 351.205(b)(1), would issue its preliminary determinations for these investigations, unless postponed, no later than 140 days after the date of the initiation. The preliminary determinations of these antidumping duty investigations are currently due no later than December 9, 2013. As explained in the memorandum from the Assistant Secretary for Enforcement and Compliance, the Department has exercised its discretion to toll deadlines for the duration of the closure of the Federal Government from October 1, through October 16, 2013.² Therefore, all deadlines in this segment of the proceeding have been extended by 16 days. If the new deadline falls on a non-business day, in accordance with the Department's practice, the deadline will become the next business day. The revised deadline for the preliminary determinations of these investigations is now December 26, 2013.

¹ See Certain Oil Country Tubular Goods from India, the Republic of Korea, the Republic of the Philippines, Saudi Arabia, Taiwan, Thailand, the Republic of Turkey, Ukraine, and the Socialist Republic of Vietnam: Initiation of Antidumping Duty Investigations, 78 FR 45505 (July 29, 2013).

² See Memorandum for the Record from Paul Piquado, Assistant Secretary for Enforcement and Compliance, “Deadlines Affected by the Shutdown of the Federal Government” (October 18, 2013).

Because of the extraordinary complexity of these cases and the number of firms whose activities we must investigate, we determine that it is not practicable to complete the preliminary determinations by the current deadline. Therefore, in accordance with section 733(c)(1)(B) of the Act and 19 CFR 351.205(b), the Department is postponing the deadline for these preliminary determinations to no later than 190 days after the date on which it initiated these investigations. Therefore, the new deadline for issuing these preliminary determinations is February 13, 2014.

This notice is issued and published pursuant to section 733(c)(2) of the Act and 19 CFR 351.205(f)(1).

Dated: October 24, 2013.
Paul Piquado,
Assistant Secretary for Enforcement and Compliance.

[FR Doc. 2013-25824 Filed 10-30-13; 8:45 am]

BILLING CODE 3510-DS-P